DEPARTMENT OF COMMERCE

National Oceanic and Atmospheric Administration

50 CFR Part 679

[I.D. 091301C]

RIN 00648-AL98

Fisheries of the Exclusive Economic Zone Off Alaska; Revision of Overfishing Definitions for the Salmon Fishery

AGENCY: National Marine Fisheries Service (NMFS), National Oceanic and Atmospheric Administration (NOAA), Commerce.

ACTION: Notice of availability; request for comments.

SUMMARY: The North Pacific Fishery Management Council (Council) has submitted for Secretarial review Amendment 6 to the Fishery Management Plan for the Salmon Fisheries in the Exclusive Economic Zone off the Coast of Alaska (Salmon FMP). This amendment is necessary to revise the overfishing definitions for the salmon fishery authorized under the Salmon FMP. This action is intended to ensure that conservation and management measures continue to be based on the best scientific information available and to advance the Council’s ability to achieve, on a continuing basis, the optimum yield from the salmon fisheries under its jurisdiction.

DATES: Comments on the amendments must be submitted on or before December 4, 2001.

ADDRESSES: Comments on this amendment should be submitted to Sue Salveson, Assistant Regional Administrator for Sustainable Fisheries, Alaska Region, NMFS, P.O. Box 21668, Juneau, AK 99802-1668, Attn: Lori Gravel, or delivered to the Federal Building, 709 West 9th Street, Juneau, AK. NMFS will not accept comments by e-mail or internet. Copies of Amendment 6 to the Salmon FMP, and the Environmental Assessment (EA) prepared for the amendment are available from NMFS.

FOR FURTHER INFORMATION CONTACT: Gretchen Harrington, 907-586-7228 or gretchen.harrington@noaa.gov.

SUPPLEMENTARY INFORMATION: The Magnuson-Stevens Fishery Conservation and Management Act (Magnuson-Stevens Act) requires that each regional fishery management council submit each fishery management plan (FMP) or FMP amendment it prepares to NMFS for review and approval, disapproval, or partial approval. The Magnuson-Stevens Act also requires that NMFS immediately announce a submitted FMP or FMP amendment is available for public review and comment. This action constitutes such notice for Amendment 6 to the Salmon FMP. NMFS will consider the public comments received during the comment period in determining whether to approve this FMP amendment.

On October 11, 1996, the President signed into law the Sustainable Fisheries Act (Pub. L. 104-297) which made numerous amendments to the Magnuson-Stevens Act. Section 3(29) of the amended Magnuson-Stevens Act defines the terms “overfishing” and “overfished” to mean a rate or level of fishing mortality that jeopardizes the capacity of a fishery to produce the maximum sustainable yield (MSY) on a continuing basis (Section 3(29)), and requires that all fishery management plans:

“specify objective and measurable criteria for identifying when the fishery to which the plan applies is overfished (with an analysis of how the criteria were determined and the relationship of the criteria to the reproductive potential of stocks of fish in that fishery) and, in the case of a fishery which the Council or NMFS has determined is approaching an overfished condition or is overfished, contain conservation and management measures to prevent overfishing or end overfishing and rebuild the fishery” (Section 303(a)(10)).

Section 301(a) of the Magnuson-Stevens Act establishes national standards for fishery conservation and management, and requires that all FMPs create management measures consistent with those standards. National standard 1 requires that conservation and management measures shall “prevent overfishing while achieving, on a continuing basis, the optimum yield from each fishery for the United States fishing industry.” Pursuant to section 301(b) of the Magnuson-Stevens Act, NMFS issued national standard guidelines to provide comprehensive guidance for the development of FMPs and FMP amendments that comply with the national standards (May 1, 1998, 63 FR 24212). These guidelines are codified in Title 50, Code of Federal Regulations, part 600 (50 CFR 600.305-600.355).

The Salmon FMP allows a commercial troll fishery in the exclusive economic zone (EEZ) off southeast Alaska (SEAK EEZ), and closes the remaining EEZ in central and western Alaska to commercial salmon fishing. All other salmon fishing occurs either in waters of the State of Alaska (State) or in one of three historical State-managed net fishing areas that extend into the EEZ. The fisheries in these three historical fishing areas are not covered by the Salmon FMP. The Salmon FMP defers management of the commercial troll fishery to the State and the U.S.-Canada Pacific Salmon Commission (PSC).

In June 1998, the Council adopted Amendment 6 to the Salmon FMP. In October 1998, the NMFS Alaska Fisheries Science Center (AFSC) stated it could not certify that the overfishing definitions comply with the national standard guidelines (50 CFR 600.310) without a considerably more explicit analysis. NMFS worked with scientists from the Alaska Department of Fish and Game (ADF&G) to analyze how the State’s policies comport with the national standard guidelines.

In consultation with the Council and the State, NMFS revised the preferred alternative to include the status determination criteria recommended by the national standard guidelines. Using the State’s sustainable salmon fisheries policy and salmon escapement goal policy and the June 1999 Amendment to the Pacific Salmon Treaty, NMFS developed an MSY control rule, fishing mortality rate, maximum fishing mortality threshold, and minimum stock size threshold for the chinook salmon (Oncorhynchus tshawytscha) and coho salmon (O. kisutch) stocks caught in the troll fishery in the SEAK EEZ. The chinook and coho stocks serve as indicator stocks for the stock complex of salmon caught in this fishery. These status determination criteria specify objective and measurable criteria for identifying when the fishery to which the plan applies is overfished or when overfishing is occurring. This analysis is presented in the EA for Amendment 6 (see ADDRESSES).

In June 2001, the Council and its Scientific and Statistical Committee reviewed the revised preferred alternative. The Council concurred that the revised preferred alternative is consistent with the alternative recommended by the Council in June 1998 in that it is consistent with State policies.

The Director of the AFSC, NMFS, has certified without reservation that the proposed definitions of overfishing: (1) Have sufficient scientific merit; (2) contain the criteria for stock determination specified in 50 CFR 600.305 (d)(2); (3) provide a basis for objective measurement of the status of the stock against the criteria; and (4) are operationally feasible.

Through the Salmon FMP, the Council intends to conserve and manage the salmon resources in the North Pacific Ocean and to allow the fisheries in State and EEZ waters to be managed as one fishery. Regulations for the Alaska salmon fishery are made by the Alaska Board of Fisheries (Board) consistent with State and Federal laws and with negotiated agreements of the PSC. ADF&G manages the fishery inseason and issues emergency regulations to achieve conservation objectives and to implement allocation policies established by the Board.

The SEAK troll fishery is a mixed-stock, mixed-species fishery that primarily targets chinook and coho salmon, with pink salmon (O. gorbuscha), chum salmon (O. keta), and sockeye salmon (O. nerka) taken incidentally. The catch in this fishery represents approximately 6 percent of the total chinook and coho salmon landed by all salmon fisheries in Southeast Alaska (1991-1996 average). This fishery harvests less than 1 percent of the total harvest of pink, chum, and sockeye salmon occurring in Southeast waters. The chinook salmon originate in the waters of British Columbia and the coho salmon originate mainly in Alaska waters. The chinook salmon stocks that originate in Canada or pass through U.S-Canada boundaries are managed by the PSC under the Pacific Salmon Treaty.

Amendment 6 would amend the Salmon FMP by providing overfishing definitions, consistent with the national standard guidelines and the FMP’s policy of Federal/State coordination. The overfishing definitions are based on State salmon management and the Pacific Salmon Treaty.

The State manages Alaska's salmon fisheries to achieve MSY, to the extent possible, by maintaining a constant level of escapement on an annual basis regardless of run strength. The achievement of MSY requires a high degree of management precision and scientific information regarding the relationship between escapement and subsequent return. Escapement targets for major stocks of Alaska salmon are continuously evaluated based on new data and improved spawner-recruit databases. To this end, the State aggressively pursues the further development of escapement enumeration programs, inseason fishery management programs, and scientific methods to determine escapement levels that produce MSY. In situations where the State lacks the necessary management program and scientific information to manage for MSY, fishery management measures are adopted to ensure that harvests are sustainable.

The Pacific Salmon Treaty defines overfishing as fishing patterns that result in escapements significantly less than those required to produce MSY. The overfishing definition notwithstanding, management agencies recognize that failure to meet spawner escapements also may result from mortality unrelated to fishing and that fishery management actions alone may not adequately address the situation.

The overfishing definitions proposed in Amendment 6 separate the salmon stocks caught in the SEAK EEZ into three tiers. The status determination criteria that are specified for the chinook and coho stocks serve as the criteria for the stock complex caught by the fishery. Tier 1 is chinook salmon stocks covered by the Pacific Salmon Treaty. The Pacific Salmon Treaty specifies a harvest based on a relationship between a pre-season abundance index generated by the PSC’s Chinook Technical Committee and a harvest control rule specified in the Treaty. The Pacific Salmon Treaty also provides for an inseason adjustment to the harvest level based on an assessment of inseason data. In addition, decreases in the allowable catch are triggered by conservation concerns of specific stock groups. This abundance-based system reduces the risk of overharvest at low stock abundance while allowing increases in harvest with increases in abundance, as with the management of the other salmon fisheries in Alaska.

Tier 2 and Tier 3 are salmon stocks that originate mainly in Alaska waters managed by the Board and ADF&G. Tier 2 are coho salmon stocks. Tier 3 stocks are coho, pink, chum, and sockeye salmon stocks managed as mixed-species complexes, with coho salmon stocks as indicator stocks.

The overfishing definitions for Tiers 2 and 3 are based on the State’s escapement goal policy. The coho salmon catch is managed to provide sustained yield of the many Alaska coho salmon stocks present in the area while minimizing the catch of chinook salmon during chinook salmon non-retention periods. ADF&G monitors all coho salmon fisheries to determine if the number of coho salmon reaching inside areas will be adequate to provide for spawning requirements. ADF&G closes the fisheries by emergency order if the escapement goals are not being met. Management of coho salmon is based on aggregate abundance because information on the status of the many coho salmon stocks in Southeast Alaska is limited and the lack of a general coho salmon stock identification technique prevents the assessment of run strength of individual stock groups contributing to these mixed-stock fisheries. Therefore, information available on individual coho salmon indicator stocks is considered in management actions.

The Council and NMFS prepared an EA for Amendment 6 that describes the management background, the purpose and need for action, the management action alternatives, and the environmental and the socio-economic impacts of the alternatives. A copy of the EA can be obtained from NMFS (see ADDRESSES).

NMFS will consider the public comments received during the comment period in determining whether to approve Amendment 6 to the Salmon FMP. To be considered, a comment must be received by close of business on the last day of the comment period (see DATES), regardless of the comment’s postmark or transmission date.

Dated: Dated: September 28, 2001.
Bruce C. Morehead,
Acting Director, Office of Sustainable Fisheries, National Marine Fisheries Service.

[FR Doc. 01-25038 Filed 10-4-01; 8:45 am]

BILLING CODE 3510-22-S